DEPARTMENT OF ENERGY

Federal Energy Regulatory Commission

Notice of Application for Surrender of Exemption and Lowering of Reservoir and Soliciting Comments, Motions to Intervene, and Protests

April 25, 2002.

Take notice that the following hydroelectric application has been filed with the Commission and is available for public inspection.

a. Type of Application: Surrender of Exemption and Lowering of Reservoir.

b. Project No.: 5972-017.

c. Date Filed: March 15, 2002.

d. Applicant: Dundee Water Power and Land Company.

e. Name of Project: Dundee Hydroelectric Project.

f. Location: The project is located on the Passaic River near the Towns of Garfield and Clifton, Bergen and Passaic Counties, New Jersey. The project does not affect federal lands.

g. Filed Pursuant to: 18 CFR 4.102.

h. Applicant Contact: Emad Sidhom, P.E., Senior Project Engineer, United Water, 200 Lake Shore Drive, Haworth, NJ 07641, (201) 225-6804.

i. FERC Contact: Questions about this notice can be answered by Jack Hannula at (202) 219-0116. The Commission cannot accept comments, motions to intervene or protests sent by e-mail; these documents must be filed as described below.

j. Cooperating agencies: We are asking Federal, state, local, and tribal agencies with jurisdiction and/or special expertise with respect to environmental issues to cooperate with us in the preparation of the environmental document. Agencies who would like to request cooperating status should follow the instructions for filing comments described in item k below.

k. Deadline for filing comments, motions to intervene, protests, and requests for cooperating agency status: 60 days from issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, motions to intervene, protests and requests for cooperating agency status may be filed electronically via the Internet in lieu of paper. See 18 CFR 385.2001(a)(1)(iii) and the instructions on the Commission's web site (http://www.ferc.gov) under the “e-Filing” link.

l. Description of Surrender: The existing Dundee Project is not operational and the generating units have been removed. The existing project consists of: (1) A 14-foot high by 130-feet long concrete spillway dam; (2) a 267-acre reservoir at elevation 27.4 feet msl; (3) a powerhouse; (4) an 80-foot long tailrace; (5) a 0.4-mile long transmission line and switchyard; and (6) appurtenant facilities. The reservoir also serves as a water supply. The applicant proposes to surrender its exemption and permanently lower the reservoir by 30 inches to increase the dam's stability for public safety reasons. The applicant proposes to accomplish this by removing 30” from the top of the dam.

m. Locations of the Application: A copy of the application is on file with the Commission and is available for public inspection. This filing may also be viewed on the web at http://www.ferc.gov using the “RIMS” link—select “Docket #” and follow the instructions (call 202-208-2222 for assistance). A copy is also available for inspection and reproduction at the address in item h above.

n. Individuals desiring to be included on the Commission's mailing list should so indicate by writing to the Secretary of the Commission.

Anyone may submit comments, motions to intervene or protests in accordance with the requirements of Rules of Practice and Procedure, 18 CFR 385.210, 385.211, 385.214. In determining the appropriate action to take, the Commission will consider all protests or other comments filed, but only those who file a motion to intervene in accordance with the Commission's Rules may become a party to the proceeding. Any comments, motions to intervene or protests must be received on or before the specified date for the particular application.

Any filings must bear in all capital letters the title “COMMENTS”, “MOTIONS TO INTERVENE” or “PROTESTS”, as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

o. Procedural schedule: The application will be processed according to the following accelerated milestones (from filing date). Revisions to these milestones will be made when the Commission determines it necessary to do so:

Notice of the availability of the EA—3 months

Ready for the Commission's decision on the application—3.5 months

Begin dam modification construction—4 months

Complete dam modification construction—6.5 months

Linwood A. Watson, Jr.,
Deputy Secretary.

[FR Doc. 02-10745 Filed 4-30-02; 8:45 am]

BILLING CODE 6717-01-P